DEPARTMENT OF COMMERCE

International Trade Administration

Trade Mission to Southeast Asia in Conjunction With Trade Winds—Asia

AGENCY: International Trade Administration, Department of Commerce.

ACTION: Notice.

I. Mission Description

The United States Department of Commerce, International Trade Administration, U.S. and Foreign Commercial Service (CS) is organizing a trade mission to Southeast Asia, to take place in conjunction with the Trade Winds—Asia business forum (which is also open to U.S. companies not participating in the trade mission) in Singapore next May. U.S. trade mission members will participate in the Trade Winds—Asia business forum in Singapore (which is also open to U.S. companies not participating in the trade mission). Trade mission participants may participate in up to three trade mission stops. On the first leg of the trade mission, prior to the Singapore trade mission stop, participants may choose to participate in a trade mission stop in either: Vietnam (Hanoi and/or Ho Chi Minh City) or Thailand (Bangkok). Trade mission participants may then choose to participate in a trade mission stop in Singapore, during which trade mission participants may participate in the Trade Winds—Asia business forum. Following the trade mission stop in Singapore, trade mission participants may choose to participate in a trade mission stop in either: Malaysia (Kuala Lumpur) or Indonesia (Jakarta).

Each trade mission stop will include one-on-one business appointments with pre-screened potential buyers, agents, distributors and joint-venture partners; and networking events. Trade mission participants electing to participate in the Trade Winds—Asia business forum may attend regional and industry-specific sessions and consultations with CS Senior Commercial Officers based in Asia.

This mission is open to U.S. companies from a cross section of industries with growth potential in Singapore, Vietnam, Thailand, Malaysia and Indonesia, including, but not limited to energy (mining, oil and gas, electric power generation, renewable), defense and aerospace, telecommunications and information technology, environmental technologies, medical equipment, safety and security equipment, automotive parts and service equipment, and logistics and transportation.

II. Commercial Setting

Singapore: In 2010, the Singapore economy rebounded with exceptional performance, expanding by 14.5% to become the second-fastest-growing economy in the world. Inflation was 2.8% in 2010 and is projected to rise to 3.0-4.0% in 2011. Analysts expect the Singapore currency to strengthen as the government uses monetary policy to fight inflation.

In 2010, Singapore remained our 13th-largest trading partner. Singapore was the United States' 10th largest export market (up from 11th largest in 2009) and the United States was the second largest supplier of imports to Singapore. The city-state, which is a regional trade hub, was the second busiest container port in the world in 2010. The World Economic Forum's “Global Enabling Trade Report 2010,” which assesses border administration, transportation and communications, and general business environment in individual countries, ranked Singapore number one, which illustrates Singapore's open economy with respect to international trade and investment.

Best market prospects for Singapore include: Electronics components; oil and gas; aircraft and parts; pollution control equipment; computer hardware/software/peripherals; telecommunication equipment and services; laboratory and scientific instruments; medical devices; education/training services; and franchising.

Vietnam: Vietnam's economic growth rate has been among the highest in the world in recent years, expanding at an average of about 7.2% per year from 2001 to 2010, while industrial production grew at an average of about 12% per year. Vietnam's GDP increased by 6.7% in 2010 and was one of only a handful of countries around the world to experience such significant growth.

In 2010, Vietnam joined the United States, Peru, Chile, Malaysia, Singapore, Brunei, New Zealand, and Australia to participate as a full member in the Trans-Pacific Economic Partnership negotiations to conclude a high-standard, 21st century Asia-Pacific free trade agreement.

The 2001 U.S.-Vietnam Bilateral Trade Agreement transformed the commercial relationship between the United States and Vietnam. Despite the continuing global economic recession in 2010, U.S. exports to Vietnam grew by an impressive 19.8% to $3.7 billion and Vietnam's exports to the U.S. increased 21.0% to $14.9 billion, resulting in an $11.2 billion bilateral trade deficit with Vietnam. Agricultural exports to Vietnam grew significantly and accounted for roughly one-third of U.S. exports to Vietnam. Vietnam continues to import machinery, chemicals, instrumentation and software to support its growing industrial sector. The industrial/manufacturing, real estate/tourism and construction sectors continued to attract a major share of new capital flowing into the country, while utilities projects gained increased interest from investors in 2010.

Best market prospects for Vietnam include: Power generation, transmission and distribution; telecommunications equipment and services; oil and gas machinery and services; information technology hardware and software; airport and ground support equipment, air traffic management systems, and aircraft landing parts; environmental and pollution control equipment and services; medical equipment; safety and security; education and training; franchising; plastic materials, equipment and machinery; and architecture, construction and engineering.

Thailand: In 2010, the GDP of Thailand grew almost 8%, supported by an increase in exports and the Government's increased spending on its “Thai Khem Khaeng” economic stimulus program. This stimulus package was estimated to have resulted in a 2.3% increase to the 2010 GDP of Thailand. The Thai GDP per capita is approximately $4,620 (2010 est.).

U.S.-Thai trade in 2010 was approximately $33 billion, an increase of 24% from 2009, with $23.6 billion in Thai exports to the U.S. and $9 billion in U.S. exports to Thailand.

Following total Thai exports to the member countries of ASEAN, the United States, Japan and China are the next three largest destinations for Thai exports, each accounting for 11% of Thailand's total exports.

Best market prospects for Thailand include: Automotive parts and services/equipment; broadcast equipment; defense equipment; education services; electronic components; electrical power systems; food processing and packaging equipment; medical devices; printing/graphic arts equipment; security and safety equipment; telecommunications equipment; and water pollution control equipment.

Malaysia: For centuries, Malaysia has profited from its location at a crossroads of trade between the East and West. Geographically blessed, peninsular Malaysia stretches the length of the Strait of Malacca, one of the most economically and politically important shipping lanes in the world. Capitalizing on its location, Malaysia transitioned from an agriculture and mining-based economy to a high-tech economy, with 6.7% growth in GDP in 2010.

In 2010, U.S.-Malaysia trade was $36.43 billion (up from $33.7 billion in 2009), ranking Malaysia as America's 17th-largest trade partner. U.S. trade in services with Malaysia totaled $2.8 billion in 2009; services exports from the U.S. were $1.7 billion, services imports from Malaysia were $1.1 billion. The United States has consistently been one of the largest foreign investors in Malaysia, with significant presence in the oil and gas sector, manufacturing, and financial services. U.S. foreign direct investment in Malaysia was $13.5 billion in 2009.

Best market prospects for Malaysia include: aircraft & parts; oil and gas equipment; renewable energy and efficient energy; digital broadcasting and product content; broadband; franchising; medical and dental healthcare.

Indonesia: Indonesia is Southeast Asia's largest economy and continues to grow. Despite the challenging global conditions, Indonesia's economy grew 4.5% in 2009, 6.1% in 2010 and is expected to increase by 8% in 2011.

The number of households in Indonesia with $5,000 to $15,000 in annual disposable income is expected to expand from 36% of the population to more than 58% by 2020. More than 60 million low-income Indonesian workers are projected to join the middle class in the coming decade, which signals increased spending on consumer goods, which continues to lead the growth in Indonesia. The world's fourth-largest country has a population of 237.5 million citizens, 50% of whom are under the age of 30. Indonesia is a top-ten market for U.S. agricultural products and a top-30 market for U.S. exports overall. Indonesia has ratified the Cape Town Treaty, which facilitates the cross-border financing and leasing of aircraft, aircraft engines, and helicopters.

Best market prospects for Indonesia include: Aircraft and parts; computer and peripherals; education and trainings; electrical power system; franchises; industrial chemicals; medical equipment and supplies; mining equipment; oil and gas equipment; retail; and telecommunications.

III. Mission Goals

The goal of the Southeast Asia trade mission is to help participating firms gain market insights, make industry contacts, solidify business strategies, and advance specific projects, with the goal of increasing U.S. exports to Singapore, Vietnam, Thailand, Malaysia and Indonesia. The delegation will have access to CS Senior Commercial Officers and Commercial Specialists during the mission, learn about the many business opportunities in Asia, and gain first-hand market exposure. U.S. trade mission participants already doing business in Singapore, Vietnam, Thailand, Malaysia and/or Indonesia will have opportunities to further advance business relationships and projects in those markets.

IV. Scenario & Timetable

May 12-13—Travel Days

May 14-15—Trade Mission stops in Hanoi, Vietnam, Ho Chi Min City, Viet Nam, or Bangkok, Thailand (Choice of one stop)

May 16—Singapore: Asia Business Forum

May 17-18—Singapore: Asia Business Forum, consultations with CS Senior Commercial Officers and Trade Mission one-on-one meetings (Schedule will vary among participating firms, depending on their needs and interests)

May 19-20—Travel Days

May 21-22—Trade Mission stops in Kuala Lumpur, Malaysia or Jakarta, Indonesia (Choice of one stop)

V. Participation Requirements

All parties interested in participating in the U.S. and Foreign Commercial Service Trade Mission to Southeast Asia must complete and submit an application package for consideration by the Department of Commerce. All applicants will be evaluated on their ability to meet certain conditions and best satisfy the selection criteria as outlined below.

A maximum of 65 companies will be selected to participate in the mission from the applicant pool on a first-come, first-served basis. Each of the trade mission stops (Vietnam, Thailand, Singapore, Indonesia, and Malaysia) is designed for participation of a maximum of 30 participants. U.S. companies already doing business in, or seeking to enter Singapore, Vietnam, Thailand, Malaysia or Indonesia for the first time may apply.

Fees and Expenses

After a company has been selected to participate in the mission, a payment to the Department of Commerce in the form of a participation fee is required.

For one mission stop, the participation fee will be $1,950 for a small or medium-sized enterprise (SME)* and $2,850 for large firms.*

For two mission stops, the participation fee will be $2,950 for a small or medium-sized enterprise (SME)* and $3,850 for large firms. *

For three missions stops, the participation fee will be $3,950 for a small or medium-sized enterprise (SME)* and $4,850 for large firms.*

There will be a $500 fee for each additional firm representative (large firm or SME) participating in one mission stop plus an additional fee of $250 for each additional mission stop. There is no additional fee for participants opting to participate in Trade Winds—Asia Business Forum.

Expenses for travel, lodging, meals, and incidentals (e.g., local transportation) will be the responsibility of each mission participant.

Conditions for Participation

• An applicant must submit a completed and signed mission application and supplemental application materials, including adequate information on the company's products and/or services, primary market objectives, and goals for participation. Applicant should specify in their application and supplemental materials which trade mission stops they are interested in participating in. If the Department of Commerce receives an incomplete application, the Department may reject the application, request additional information, or take the lack of information into account when evaluating the applications.

• Each applicant must also certify that the products and services it seeks to export through the mission are either produced in the U.S., or, if not, marketed under the name of a U.S. firm and have at least 51% U.S. content of the value of the finished product or service.

Selection Criteria for Participation: Selection will be based on the following criteria:

• Suitability of the company's products or services to each of the markets the company has expressed an interest in visiting as part of this trade mission.

• Company's potential for business in each of the markets the company has expressed an interest in visiting as part of this trade mission.

• Consistency of the applicant's goals and objectives with the stated scope of the mission

Diversity of company size, sector or subsector, and location may also be considered during the review process.

Referrals from political organizations and any documents containing references to partisan political activities (including political contributions) will be removed from an applicant's submission and not considered during the selection process.

VI. Timeframe for Recruitment and Applications

Mission recruitment will be conducted in an open and public manner, including publication in the Federal Register, posting on the Commerce Department trade mission calendar, and other Internet Web sites, press releases to the general and trade media, direct mail and broadcast fax, notices by industry trade associations and other multiplier groups and announcements at industry meetings, symposia, conferences, and trade shows.

Recruitment for the mission will begin immediately and conclude no later than March 30, 2012. The U.S. Department of Commerce will review applications and select the participants from the applicant pool on a first come first-served basis. After March 30, 2012, companies will be considered only if space and scheduling constraints permit.

An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008. For additional information see http://www.export.gov/newsletter/march2008/initiatives.html).

U.S. Contact Information

Shannon Christenbury, U.S. Export Assistance Center—Charlotte. Shannon.Christenbury@trade.gov. Tel: 704-333-4886 x225.

Leslie Drake, U.S. Export Assistance Center—Charleston. Leslie.Drake@trade.gov. Tel: 304-347-5123.

Bill Burwell, U.S. Export Assistance Center—Baltimore. Bill.Burwell@trade.gov. Tel: 410-962-3097.

Singapore Contact Information

Patrick Santillo, Senior Commercial Officer, U.S. Commercial Service—Singapore. Patrick.Santillo@trade.gov.

Elnora Moye,
Commercial Service Trade Mission Program, U.S. Department of Commerce.

[FR Doc. 2011-24294 Filed 9-21-11; 8:45 am]

BILLING CODE 3510-FP-P